Title 3—

The President

Executive Order 13255 of February 6, 2002

Amendment to Executive Order 13227, President's Commission on Excellence in Special Education

By the authority vested in me as President by the Constitution and the laws of the United States of America, and in order to extend the reporting date of the President's Commission on Excellence in Special Education, it is hereby ordered that Executive Order 13227 of October 2, 2001, is amended by deleting “April 30, 2002” in section 3(b) of that order and inserting in lieu thereof “July 1, 2002”.

B

THE WHITE HOUSE,

February 6, 2002.

[FR Doc. 02-3337

Filed 2-7-02; 11:44 am]

Billing code 3195-01-P